DEPARTMENT OF AGRICULTURE

Farm Service Agency

[Docket ID FSA-2023-0019]

Information Collection Request; Certified State Mediation Program

AGENCY: Farm Service Agency, USDA.

ACTION: Notice; request for comment.

SUMMARY: In accordance with the Paperwork Reduction Act, the Farm Service Agency (FSA) is requesting comments from all interested individuals and organizations on a revision of a currently approved information collection that supports the Certified State Mediation Program. The information collection is necessary to ensure that the grant program is administered properly. The collection of information is used to determine whether participants meet the eligibility requirements to be a recipient of grant funds. Lack of adequate information to make the determination could result in the improper administration of Federal grant funds.

DATES: We will consider comments we receive by November 24, 2023.

ADDRESSES: You may submit comments by the following method: Federal eRulemaking Portal; Go to https://www.regulations.gov and search for Docket ID FSA-2023-0019. You may also send comments to the Desk Officer for Agriculture, Office of the Information and Regulatory Affairs, Office of Management and Budget, Washington, DC 20503. Comments will be available for public inspection online at https://www.regulations.gov.

FOR FURTHER INFORMATION CONTACT: Tracy Jones, by telephone: 202-720-6771; or by email: tracy.jones@usda.gov. Individuals who require alternative means of communication should contact the USDA TARGET Center at (202) 720-2600 (voice and text telephone (TTY)) or dial 711 for Telecommunications Relay Service (both voice and text telephone users can initiate this call from any telephone).

SUPPLEMENTARY INFORMATION:

Title: Certified State Mediation Program (7 CFR 785).

OMB Control Number: 0560-0165.

Expiration Date of Approval: January 31, 2024.

Type of Request: Revision.

Abstract: FSA administers the Certified State Mediation Program (Program) according to Subtitles A of the Title V of the Agricultural Credit Act of 1987 (7 U.S.C. 5101-5106). To effectively administer the Program, FSA requires an application for recertification, which includes submission of a letter from the State, a letter from the grantee, SF-424, SF-424A, SF-424B, and SF-425. Approved grantees provide a mid-year report as well as an annual report that includes information on mediation services provided during the preceding Federal fiscal year, assessment of the performance and effectiveness of the State's Program, and any other matters related to the Program as the State elects to include. In addition, approved grantees complete SF-270 to request either advance funding or reimbursement of expenses already paid. The information requested is necessary for FSA to determine the grantee's eligibility and administer the Program effectively.

The total annual burden of 2,898 hours and the respondents of 42 did not change since the last OMB submission. However, the increased responses of 126 was omitted by error in the calculation previously for the estimated number of unduplicated responses to average, four responses per respondent. Those respondents would provide one mid-year report, one annual report, one request for Recertification, and submitting a Request for Advance or Reimbursement (SF-270), at least one time per fiscal year.

For the following estimated total annual burden on respondents, the formula used to calculate the total burden hours is the estimated average time per response multiplied by the estimated total annual responses.

Estimate of Average Time to Respond: Public reporting burden for collecting information under this notice is estimated to average 5.75 hour per response, including the time for reviewing instructions, searching existing data sources, gathering and maintaining the data needed, and completing and reviewing the collections of information.

Type of Respondents: State.

Estimated Number of Respondents: 42.

Estimated Average Number of Responses per Respondent: 12.

Estimated Total Annual Responses: 504.

Estimated Total Annual Burden on Respondents: 2,898 hours.

The purpose of this notice is to request comments from the public (as well as affected agencies) concerning the information collection request. The comments will help us:

(1) Evaluate whether the proposed collection of information is necessary for the proper performance of the functions of the agency, including whether the information will have practical utility;

(2) Evaluate the accuracy of the agency's estimate of burden of the collection of information including the validity of the methodology and assumptions used;

(3) Evaluate the quality, utility and clarity of the information technology; and

(4) Minimize the burden of the information collection on those who respond through the use of appropriate automated, electronic, mechanical, or other technological collection techniques or other forms of information technology.

All comments received in response to this notice, including names and addresses where provided, will be made a matter of public record. Comments will be summarized and included in the submission for Office of Management and Budget approval.

USDA Non-Discrimination Policy

In accordance with Federal civil rights law and U.S. Department of Agriculture (USDA) civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or the USDA TARGET Center at (202) 720-2600 (voice and text telephone (TTY)) or dial 711 for Telecommunications Relay Service (both voice and text telephone users can initiate this call from any telephone). Additionally, program information may be made available in languages other than English.

To file a program discrimination complaint, complete the USDA Program Discrimination Complaint Form, AD-3027, found online at https://ww.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) fax: (202) 690-7442; or (3) email: program.intake@usda.gov.

USDA is an equal opportunity provider, employer, and lender.

Zach Ducheneaux,
Administrator, Farm Service Agency.

[FR Doc. 2023-20667 Filed 9-22-23; 8:45 am]

BILLING CODE 3411-E2-P